CONSUMER PRODUCT SAFETY COMMISSION

[Docket No. CPSC-2009-0073]

Agency Information Collection Activities; Extension of Collection; Comment Request; Virginia Graeme Baker Pool and Spa Safety Act Verification of Compliance Form

AGENCY: Consumer Product Safety Commission.

ACTION: Notice of information collection; request for comment.

SUMMARY: As required by the Paperwork Reduction Act of 1995 (PRA), the Consumer Product Safety Commission (CPSC or Commission) requests comments on a proposed extension of approval of information collection regarding a form used to verify whether pools and spas are in compliance with the Virginia Graeme Baker Pool and Spa Safety Act. The Office of Management and Budget (OMB) previously approved the collection of information under control number 3041-0142. OMB's most recent extension of approval will expire on March 31, 2026. The Commission will consider all comments received in response to this notice before requesting an extension of this collection of information from OMB.

DATES: Submit comments on the collection of information by February 17, 2026.

ADDRESSES: You may submit comments, identified by Docket No. CPSC-2009-0073, within 60 days of publication of this notice by any of the following methods:

Electronic Submissions: Submit electronic comments to the Federal eRulemaking Portal at: https://www.regulations.gov. Follow the instructions for submitting comments. Do not submit through this website: confidential business information, trade secret information, or other sensitive or protected information that you do not want to be available to the public. The Commission typically does not accept comments submitted by email, except as described below.

Mail/hand delivery/courier/written submissions: CPSC encourages you to submit electronic comments by using the Federal eRulemaking Portal. You may, however, submit comments by mail/hand delivery/courier to: Office of the Secretary, U.S. Consumer Product Safety Commission, 4330 East-West Highway, Bethesda, MD 20814; telephone (301) 504-7479.

Instructions: All submissions received must include the agency name and docket number for this notice. CPSC may post all comments without change, including any personal identifiers, contact information, or other personal information provided, to: https://www.regulations.gov. If you wish to submit confidential business information, trade secret information, or other sensitive or protected information that you do not want to be available to the public, you may submit such comments by mail, hand delivery, or courier, or you may email them to cpsc-os@cpsc.gov.

Docket: For access to the docket to read background documents or comments received, go to: https://www.regulations.gov, insert docket number CPSC-2009-0073 into the “Search” box, and follow the prompts.

FOR FURTHER INFORMATION CONTACT: Cynthia Gillham, Consumer Product Safety Commission, 4330 East-West Highway, Bethesda, MD 20814; (301) 504-7791, or by email to: pra@cpsc.gov.

SUPPLEMENTARY INFORMATION: CPSC seeks to renew the following currently approved collection of information:

Title: Virginia Graeme Baker Pool and Spa Safety Act Verification of Compliance Form.

OMB Number: 3041-0142.

Type of Review: Renewal of collection.

Frequency of Response: On occasion.

Affected Public: Public pools and spa facilities.

General Description of Collection: The CPSC administers and oversees compliance with the Virginia Graeme Baker Pool and Spa Safety Act (VGBA), 15 U.S.C. Ch. 106. The VGBA is designed to prevent the tragic and hidden hazard of drain entrapment and evisceration in public pools and spas. To achieve its purposes, the VGBA requires, among other things, each swimming pool and spa drain cover manufactured, distributed, or introduced into commerce meet specific requirements of the CPSC recognized performance standard, and that each public pool and spa be equipped with anti-entrapment devices or systems that comply with the recognized performance standard. 15 U.S.C. 8003; 16 CFR part 1450.

CPSC, directly or through State contracted employees, inspects and assesses public pools and spas for compliance. A compliance form is used to record observations and assessments of compliance. The VGBA Form is available for viewing at https://www.regulations.gov under docket number, CPSC-2009-0073, “Supporting and Related Material.”

Estimated Number of Respondents: CPSC compliance staff estimates that 50 inspections are completed annually, based on a review of prior completed inspections.

Estimated Time per Response: CPSC estimates that three hours will be required to inspect a pool or spa facility.

Total Estimated Annual Burden: CPSC estimates that total annual burden hours are at most 150 (50 inspections × 3 hours per inspection).

Total Estimated Annual Cost to Respondents: CPSC estimates that hourly compensation for the time required for inspecting is $76.45 (U.S. Bureau of Labor Statistics, “Employer Costs for Employee Compensation,” June 2025, Table 4, total compensation for management, professional, and related workers in private service-producing industries: Employer Costs for Employee Compensation News Release—2025 Q02 Results). Therefore, CPSC estimates the annual cost to be $11,468 ($76.45 × 150 = $11,467.50).

Request for Comments

The Commission solicits written comments from all interested persons about the proposed collection of information. The Commission specifically solicits information relevant to the following topics:

• whether the collection of information described above is necessary for the proper performance of the Commission's functions, including whether the information would have practical utility;

• whether the estimated burden of the proposed collection of information is accurate;

• whether the quality, utility, and clarity of the information to be collected could be enhanced; and

• whether the burden imposed by the collection of information could be minimized by use of automated, electronic or other technological collection techniques, or other forms of information technology.

Alberta E. Mills,
Secretary, Consumer Product Safety Commission.

[FR Doc. 2025-22984 Filed 12-15-25; 8:45 am]

BILLING CODE 6355-01-P